DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 27, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Housing Service

Title: American Rescue Plan Act, 2021 (ARPA)—7 CFR PART 3550, “DIRECT SINGLE FAMILY HOUSING SECTIONS 502 and 504 LOAN PROGRAMS

OMB Control Number: 0575-NEW.

Summary of Collection: USDA Rural Development (RD) is committed to helping improve the economy and quality of life in rural America. RD's Rural Housing Service (RHS or Agency) offers a variety of programs to build or improve housing and essential community facilities in rural areas.

The Housing Act of 1949 provides the authority for the RHS's direct single family housing loan and grant programs. The programs provide eligible applicants with financial assistance to own adequate but modest homes in rural areas. 7 CFR part 3550 sets forth the programs' policies and the programs' procedures can be found in its accompanying handbooks (Handbook-1-3550 and Handbook-2-3550). To originate and service direct loans and grants that comply with the programs' statute, policies, and procedures, RHS must collect information from low- and very low-income applicants, third parties associated with or working on behalf of the applicants, borrowers, and third parties associated with or working on behalf of the borrowers.

The American Rescue Plan (ARP) Act of 2021 (Pub. L. 117-2; H.R. 1319, section 3207) appropriated an additional $39 million of Budget Authority (BA) for Single Family Housing (SFH) section 502 and 504 Direct Loan Program borrowers. The BA equated to approximately $656.6 million of ARP program funding available in FY 21; due to a change in the subsidy rate, there are approximately $1.955 billion of program funding available in FY 22. Funds remain available until September 30, 2023. The stated purpose of the American Rescue Plan (ARP) Act of 2021 is to provide “additional relief to address the continued impact of COVID-19 on the economy, public health, state and local governments, individuals, and businesses.” Therefore, the Agency's initial objective under the ARP Act is to refinance the existing 24,000 Section 502 direct and Section 504 borrowers who have been granted and received a COVID-19 payment moratorium. Refinancing these loans with a lower interest rate and extended terms will help provide needed relief to borrowers, so that mortgage payments are more affordable post-moratorium. The Agency has made every effort to streamline the ARPA application process by using existing direct application processes, documents, etc., and eliminate requirements which are not applicable for ARPA (e.g., credit verifications). Likewise, due to the unique nature of ARPA it was necessary to create or modify some items specific to ARPA as explained later in this document.

Need and Use of the Information: Information needed for origination purposes is largely collected by RD field staff from applicants and third parties associated with or working on behalf of the applicants. Information needed for servicing purposes is largely collected by the Servicing and Asset Management Office (Servicing Center) from borrowers and third parties associated with or working on behalf of the borrowers. The party collecting the information provides the respondent with the needed form(s) and/or non-form(s) along with submission instructions. While submission instructions may vary, the Agency utilizes secure electronic means of submission when possible (e.g., eForms and password protected emails).

Description of Respondents: Individuals and Households.

Number of Respondents: 4,420.

Frequency of Responses: Reporting: On occasion.

Total Burden Hours: 2,602.

Levi S. Harrell,
Departmental Information Collection Clearance Officer.

[FR Doc. 2022-28238 Filed 12-27-22; 8:45 am]

BILLING CODE 3410-XV-P